DEPARTMENT OF HEALTH AND HUMAN SERVICES

Centers for Disease Control and Prevention

[30Day-14-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Workplace Exacerbation of Asthma (OMB No. 0920-0495)—Extension—National Institute for Occupational Safety and Health (NIOSH), Centers for Disease Control and Prevention (CDC).

Work-related asthma is the most common lung disease seen in occupational health clinics in the United States based on data from the Association of Occupational and Environmental Clinics for 1991-1996. Work-related asthma includes both new onset asthma initiated by workplace exposures and pre-existing asthma exacerbated by workplace environments, in both types of cases repeated exposure to asthmatic agents can lead to chronic pulmonary impairment. The 1985 American Thoracic Society statement “What Constitutes an Adverse Health Effect of Air Pollution” identified exacerbation of asthma as one of the serious effects of environmental air pollution. While anecdotal evidence suggests that as many as one-half of work-related asthma patients treated in occupational medicine clinics had pre-existing asthma that was exacerbated by workplace conditions, there are few data from studies in the United States to support this claim.

Three years ago, NIOSH requested approval from OMB to conduct a three phase study. In Phase 1 (Baseline Study), a telephone interview was conducted to address three specific aims: (1) To determine the frequency of workplace exacerbation of asthma (WEA); (2) to determine the circumstances at work associated with exacerbation of asthma; and (3) to determine the social and economic costs associated with workplace exacerbation of asthma. To date, the Baseline Study telephone interviews have been completed for a total of 615 participants. Also, patient care records have been obtained in order to ascertain cost of care for asthma for each participant (Specific Aim 3).

Phase 2 (Validation Phase) is being conducted with a subset of respondents from the Baseline Study. Employed respondents with and without workplace exacerbation are being asked to conduct serial spirometry with a portable device. These findings will serve as the “gold standard” to determine the sensitivity and specificity of a self-report of workplace exacerbation of asthma (Specific Aim #4). As part of the serial testing, respondents complete a diary and final brief telephone interview at the end of the serial testing. Data collection for Phase 2 continues. The Paperwork Reduction Act does not apply to Phase 2 of the study.

In Phase 3 (Follow-up Study), all respondents from the Baseline Study will be asked to complete a follow-up telephone interview approximately two years later to investigate whether workplace exacerbation at baseline predicts an increase in asthma severity (Specific Aim #5). We anticipate that interviewing for Phase 3 will continue through August, 2004.

The data collected in this study will be used to further understand the frequency of workplace-exacerbated asthma, the social and economic impacts of this problem, and the implication of self-reporting WEA for subsequent asthma severity. This information can be used to prioritize resources for addressing this problem. The data collected in this study will also identify which jobs and exposures are likely to exacerbate existing asthma, thus providing guidance on where to focus preventive efforts. Collected data on the validity of self-reporting WEA will be useful to both clinicians and researchers who attempt to treat or study individuals with this problem. The annualized burden for this data collection is 214 hours.

Respondents | Number of respondents | Number of responses per respondent | Average Burden per Response (in hours)
Validation Study * | (200) | (1) | (7.5)
Follow-up Study: Attempt to conduct an interview | 465 | 1 | 5/60
Follow-up Study: Completed interviews | 349 | 1 | 30/60
* The Paperwork Reduction Act does not apply to the Validation Study.

Dated: December 11, 2003.
Alvin Hall,
Director, Management Analysis and Services Office, Centers for Disease Control and Prevention.

[FR Doc. 03-31306 Filed 12-18-03; 8:45 am]

BILLING CODE 4163-18-P